DEPARTMENT OF ENERGY

Federal Energy Regulatory Commission

[Project No. P-1744-039]

PacifiCorp; Notice of Intent To File License Application, Filing of Pre-Application Document, Approving Use of the Alternative Licensing Process, and Requesting Cooperating Agency Status

a. Type of Filing: Notice of Intent To File License Application and Request to Use the Alternative Licensing Process.

b. Project No.: 1744-039.

c. Date Filed: June 1, 2015.

d. Submitted By: PacifiCorp.

e. Name of Project: Weber Hydroelectric Project.

f. Location: On the Weber River, in Weber, Davis, and Morgan Counties, Utah. The project occupies 11.4 acres of United States lands administered by the U.S. Forest Service.

g. Filed Pursuant to: 18 CFR 5.3 of the Commission's regulations.

h. Potential Applicant Contact: Eve Davies, PacifiCorp, 1407 West North Temple, Ste. 110, Salt Lake City, UT 84116; (801) 220-2245; email—eve.davies@pacificorp.com.

i. FERC Contact: Claire McGrath at (202) 502-8290; or email at claire.mcgrath@ferc.gov.

j. PacifiCorp filed its request to use the Alternative Licensing Process on June 1, 2015. PacifiCorp provided public notices of its request on May 29 and May 31, 2015. On July 10, 2015, PacifiCorp provided a subsequent public notice of its request, which included the required statement that comments on the request to use the ALP must be filed with the Commission within 30 days of the notice. In a letter dated August 13, 2015, the Director of the Division of Hydropower Licensing approved PacifiCorp's request to use the Alternative Licensing Process.

k. Cooperating agencies: Federal, state, local, and tribal agencies with jurisdiction and/or special expertise with respect to environmental issues that wish to cooperate in the preparation of the environmental document should follow the instructions for filing such requests described in paragraph o below. Cooperating agencies should note the Commission's policy that agencies that cooperate in the preparation of the environmental document cannot also intervene. See 94 FERC ¶ 61,076 (2001).

l. With this notice, we are initiating informal consultation with the U.S. Fish and Wildlife Service under section 7 of the Endangered Species Act and the joint agency regulations thereunder at 50 CFR, Part 402. We are also initiating consultation with the Utah State Historic Preservation Officer, as required by section 106, National Historic Preservation Act, and the implementing regulations of the Advisory Council on Historic Preservation at 36 CFR 800.2.

m. With this notice, we are designating PacifiCorp as the Commission's non-federal representative for carrying out informal consultation pursuant to section 7 of the Endangered Species Act; and consultation pursuant to section 106 of the National Historic Preservation Act.

n. PacifiCorp filed a Pre-Application Document (PAD; including a proposed process plan and schedule) with the Commission, pursuant to 18 CFR 5.6 of the Commission's regulations.

o. Deadline for filing requests for cooperating agency status: 60 days from the date of this notice.

The Commission strongly encourages electronic filing. Please file requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-1744-039.

p. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

q. The licensee states its unequivocal intent to submit an application for a new license for Project No.1744-039. Pursuant to 18 CFR 16.8, 16.9, and 16.10 each application for a new license and any competing license applications must be filed with the Commission at least 24 months prior to the expiration of the existing license. All applications for license for this project must be filed by May 31, 2018.

r. Register online at http://www.ferc.gov/docs-filing/esubscription.asp to be notified via email of new filing and issuances related to this or other pending projects. For assistance, contact FERC Online Support.

Dated: August 13, 2015.
Kimberly D. Bose,
Secretary.

[FR Doc. 2015-20464 Filed 8-18-15; 8:45 am]

BILLING CODE 6717-01-P